SMALL BUSINESS ADMINISTRATION

[Disaster Declaration # 20879 and # 20880; MONTANA Disaster Number MT-20014]

Presidential Declaration Amendment of a Major Disaster for the Crow Nation

AGENCY: U.S. Small Business Administration.

ACTION: Amendment 1.

SUMMARY: This is an amendment of the Presidential declaration of a major disaster for the Crow Nation (FEMA—4847-DR), dated November 14, 2024.

Incident: Severe Storm and Straight-line Winds.

DATES: Issued on January 8, 2025.

Incident Period: August 6, 2024.

Physical Loan Application Deadline Date: February 28, 2025.

Economic Injury (EIDL) Loan Application Deadline Date: August 14, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Crow Nation, dated November 14, 2024, is hereby amended to extend the deadline for filing applications for physical damages as a result of this disaster to February 28, 2025.

All other information in the original declaration remains unchanged.

(Catalog of Federal Domestic Assistance Number 59008)

Rafaela Monchek,
Deputy Associate Administrator, Office of Disaster Recovery & Resilience.

[FR Doc. 2025-01071 Filed 1-16-25; 8:45 am]

BILLING CODE 8026-09-P